DEPARTMENT OF HEALTH AND HUMAN SERVICES

National Institutes of Health

Proposed Collection; Comment Request; a Nested Case-Control Study of Lung Cancer and Diesel Exposure Among a Cohort of Non-Metal Miners

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

PROPOSED COLLECTION: Title: A Nested Case-Control Study of Lung Cancer and Diesel Exhaust Among a Cohort of Non-Metal Miners. Type of Information Collection Request: New. Need and Use of Information Collection: This nested case-control study will examine lung cancer in non-metal miners and its association, if any, with diesel exhaust exposure. The study will involve approximately 160 deaths from lung cancer (the actual number will depend on the number of deaths occurring,but based on national rates we expect 160), and four controls matched to each death, identified from the cohort. Controls will be matched on mine, gender, race/ethnicity and year of birth (within 5 years). Detailed information regarding exposure to diesel exhaust will be obtained from employment records and measurements of diesel exhaust surrogates. Information on potential confounders will be obtained by interview and from environmental measurements. This information will be used in a study by the National Cancer Institute and the National Institute for Occupational Safety and Health to examine risk of mortality from lung cancer for various measures of diesel exhaust exposure, adjusted for smoking and other potential confounders. Frequency of Response: One-time study. Affected Public: Individuals. Type of Respondents: Workers or next of kin of workers. The annual reporting burden is as follows: Estimated number of Respondents: 227; Estimated Number of Responses per Respondent: One; Average Burden Hours per Response: 1.0; and Estimated Total Annual Burden Hours Requested: 227. There are no Capital Costs, Operating Costs, and/or Maintenance Costs to report.

REQUEST FOR COMMENTS: Written comments and/or suggestions from the public and affected agencies are invited on one or more of the following points: (1) Whether the proposed collection or information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Dr. Debra Silverman, NCI Project Director, National Cancer Institute, Executive Plaza South, Room 8108, Rockville, Maryland 20892-7240, or call non-toll-free number (301) 435-4716, or FAX your request to (301) 402-1819, or E-mail your request, including your address, to Silvermd@exchange.nih.gov.

COMMENTS DUE DATE: Comments regarding this information collection are best assured of having their full effect if received on or before June 26, 2000.

Dated: April 18, 2000.
Reesa Nichols,
NCI Project Clearance Liaison.

[FR Doc. 00-10403 Filed 4-25-00; 8:45 am]

BILLING CODE 4140-01-M